DEPARTMENT OF HOUSING AND URBAN DEVELOPMENT

[Docket No. FR-4557-N-05]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ENERGY: Mr. Tom Knox, Department of Energy, Office of Contract and Resource Management, MA-53, Washington, DC 20585; (202) 586-8715; GSA: Mr. Brian K. Polly, Assistant Commissioner, General Services Administration, Office of Property Disposal, 18th and F Streets, NW, Washington, DC 20405; (202) 501-0052; NAVY: Mr. Charles C. Cocks, Department of the Navy, Director, Real Estate Policy Division, Naval Facilities Engineering Command, Washington Navy Yard, 1322 Patterson Ave., SE, Suite 1000, Washington, DC 20374-5065; (202) 685-9200; (These are not toll-free numbers).

Dated: January 28, 2000.
Fred Karnas, Jr.,
Deputy Assistant Secretary for Special Needs Assistance Programs.

Title V, Federal Surplus Property Program Federal Register Report for 2/4/00

Suitable/Available Properties

Buildings (by State)

Maryland

Bldg. 139

Naval Surface Warfare Center

Carderock Division

West Bethesda Co: Montgomery MD 20817-5700

Landholding Agency: Navy

Property Number: 77200010032

Status: Utilized

Comment: 4950 sq. ft., possible asbestos/lead paint, most recent use—wind tunnel, off-site use only.

Washington

Moses Lake U.S. Army Rsv Ctr

Grant County Airport

Moses Lake Co: Grant WA 98837-

Landholding Agency: GSA

Property Number: 21199630118

Status: Surplus

Comment: 4499 sq. ft./2.86 acres, most recent use—admin., temporary permit from COE granted to an organization, FAA recommended land not be used for residential use due to aircraft noise problem, restriction

GSA Number: 9-D-WA-1141.

Unsuitable Properties

Buildings (by State)

Colorado

Bldg. 776

Rocky Flats Environmental

Tech Site

Golden Co: Jefferson CO 80020-

Landholding Agency: Energy

Property Number: 41200010001

Status: Excess

Reasons: Within 2000 ft. of flammable or explosive material, Secured Area.

Bldg. 777

Rocky Flats Environmental

Tech Site

Golden Co: Jefferson CO 80020-

Landholding Agency: Energy

Property Number: 41200010002

Status: Excess

Reasons: Within 2000 ft. of flammable or explosive material, Secured Area.

Bldg. 778

Rocky Flats Environmental

Tech Site

Golden Co: Jefferson CO 80020-

Landholding Agency: Energy

Property Number: 41200010003

Status: Excess

Reasons: Within 2000 ft. of flammable or explosive material, Secured Area.

Structure 712-712A

Flats Environmental

Tech Site

Golden Co: Jefferson CO 80020-

Landholding Agency: Energy

Property Number: 41200010004

Status: Excess

Reasons: Within 2000 ft. of flammable or explosive material, Secured Area.

Structure 713-713A

Rocky Flats Environmental

Tech Site

Golden Co: Jefferson CO 80020-

Landholding Agency: Energy

Property Number: 41200010005

Status: Excess

Reasons: Within 2000 ft. of flammable or explosive material, Secured Area.

Structure 771 TUN

Rocky Flats Environmental

Tech Site

Golden Co: Jefferson CO 80020-

Landholding Agency: Energy

Property Number: 41200010006

Status: Excess

Reasons: Within 2000 ft. of flammable or explosive material, Secured Area.

Structure 776A-781

Rocky Flats Environmental

Tech Site

Golden Co: Jefferson CO 80020-

Landholding Agency: Energy

Property Number: 41200010007

Status: Excess

Reasons: Within 2000 ft. of flammable or explosive material, Secured Area.

Florida

Bldg. A-952

Naval Air Station

Boca Chica

Key West Co: Monroe FL 33040-

Landholding Agency: Navy

Property Number: 77200010034

Status: Unutilized

Reason: Extensive deterioration.

Bldg. A-962

Naval Air Station

Boca Chica

Key West Co: Monroe FL 33040-

Landholding Agency: Navy

Property Number: 77200010035

Status: Unutilized

Reason: Extensive deterioration.

Bldg. A-1105

Naval Air Station

Boca Chica

Key West Co: Monroe FL 33040-

Landholding Agency: Navy

Property Number: 77200010036

Status: Unutilized

Reason: Extensive deterioration.

Maryland

Bldg. 163

Naval Surface Warfare Center

Carderock Division

West Bethesda Co: Montgomery MD 20817-5700

Landholding Agency: Navy

Property Number: 77200010033

Status: Unutilized

Reason: Extensive deterioration.

Mississippi

Bldg. 49

CBC Gulfport

Gulfport Co: Harrison MS 39501-

Landholding Agency: Navy

Property Number: 77200010024

Status: Unutilized

Reasons: Secured Area, Extensive deterioration.

Bldg. 130

CBC Gulfport

Gulfport Co: Harrison MS 39501-

Landholding Agency: Navy

Property Number: 77200010025

Status: Unutilized

Reasons: Secured Area, Extensive deterioration.

Bldg. 368

CBC Gulfport

Gulfport Co: Harrison MS 39501-

Landholding Agency: Navy

Property Number: 77200010026

Status: Unutilized

Reasons: Secured Area, Extensive deterioration.

Bldg. 390

CBC Gulfport

Gulfport Co: Harrison MS 39501-

Landholding Agency: Navy

Property Number: 77200010027

Status: Unutilized

Reasons: Secured Area, Extensive deterioration.

Unsuitable Properties

Land (by State)

Maryland

Land—5000 sq. ft.

Naval Air Station

Patuxent River Co: MD 20670-1603

Landholding Agency: Navy

Property Number: 77200010023

Status: Unutilized

Reason: Secured Area.

New Hampshire

Parcel #4

Portsmouth Naval Shipyard

Portsmouth Co: NH 03804-5000

Landholding Agency: Navy

Property Number: 77200010028

Status: Underutilized

Reasons: Within 2000 ft. of flammable or explosive material, Secured Area.

Parcel #5

Portsmouth Naval Shipyard

Portsmouth Co: NH 03804-5000

Landholding Agency: Navy

Property Number: 77200010029

Status: Underutilized

Reasons: Within 2000 ft. of flammable or explosive material, Secured Area.

Parcel #6

Portsmouth Naval Shipyard

Portsmouth Co: NH 03804-5000

Landholding Agency: Navy

Property Number: 77200010030

Status: Underutilized

Reasons: Within 2000 ft. of flammable or explosive material, Secured Area.

Parcel #7

Portsmouth Naval Shipyard

Portsmouth Co: NH 03804-5000

Landholding Agency: Navy

Property Number: 77200010031

Status: Underutilized

Reasons: Within 2000 ft. of flammable or explosive material, Secured Area.

[FR Doc. 00-2314 Filed 2-3-00; 8:45 am]

BILLING CODE 4210-29-M